DEPARTMENT OF ENERGY

Federal Energy Regulatory Commission

[Docket No. RP98-371-005]

Williams Gas Pipelines Central, Inc.; Notice of Filing of Report of Activities Under Rate Schedule PLS, Parking and Loan Service

June 5, 2000.

Take notice that on June 1, 2000, Williams Gas Pipelines Central, Inc. (Williams) filed a report of activities for the first year of operation under Rate Schedule PLS as required by the Commission's September 2, 1998 order in Docket No. RP98-371. Williams first offered service under Rate Schedule PLS for March 1999. Therefore, the report covers the period March 1999 through February 2000. The report lists total volumes parked or loaned by month and the peak daily volumes for service by month, all PLS contracts, the term of the contracts, including the dates gas was parked or loaned and the dates the gas was returned, the contract dates, and the location where gas was parked or loaned and returned, whether the contract was with an affiliate, and aggregate revenues derived from PLS service during the first year.

Williams states that a copy of its filing was served on all jurisdictional customers and interested state commissions.

Any person desiring to protest said filing should file a protest with the Federal Energy Regulatory Commission, 888 First Street, NE., Washington, DC 20426, in accordance with section 385.211 of the Commission's Rules and Regulations. All such protests must be filed on or before June 12, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14560 Filed 6-8-00; 8:45 am]

BILLING CODE 6717-01-M